DEPARTMENT OF THE INTERIOR

Bureau of Land Management

[NV-050-5853-ES; N-77392]

Notice of Realty Action: Lease/Conveyance for Recreation and Public Purposes

AGENCY: Bureau of Land Management, Interior.

ACTION: Recreation and public purposes lease/conveyance.

SUMMARY: BLM has determined that land located in Clark County, Nevada is suitable for classification for lease/conveyance to Clark County, Nevada.

FOR FURTHER INFORMATION CONTACT: Susan Woods, BLM Realty Specialist, (702) 515-5129.

SUPPLEMENTARY INFORMATION: The following described public land in Las Vegas, Clark County, Nevada has been examined and found suitable for lease/conveyance for recreational or public purposes under provisions of the Recreation and Public Purposes (R&PP) Act, as amended (43 U.S.C. 869 et seq.).

N-77392—Clark County proposes to use the land for a regional park.

Mount Diablo Meridian, Nevada

T. 22 S., R. 60 E.,

sec. 22: S½S½SW¼NW¼, W½SW¼.

Consisting of 74.23 acres.

The land is not required for any federal purpose. Lease/conveyance is consistent with current Bureau planning for this area and would be in the public interest. The lease/conveyance, when issued, will be subject to the provisions of the Recreation and Public Purposes Act and applicable regulations of the Secretary of the Interior and will contain the following reservations to the United States:

1. A right-of-way thereon for ditches and canals constructed by the authority of the United States, Act of August 30, 1890 (43 U.S.C. 945).

2. All minerals shall be reserved to the United States, together with the right to prospect for, mine and remove such deposits from the same under applicable law and such regulations as the Secretary of the Interior may prescribe.

And will be subject to:

1. All valid and existing rights.

2. Those rights for utility purposes (water pipeline) which have been granted to the Los Angeles & Salt Lake Railroad by right-of-way grant NVCC-014956 pursuant to the Act of February 15, 1901; (31 Stat. 90; 43 U.S.C. 959).

3. Those rights for utility purposes which have been granted to Central Telephone Company by right-of-way grant N-001871 pursuant to Title V of the Federal Land Policy and Management Act of October 21, 1976 (43 U.S.C. 1761).

4. Those rights for public roads which have been granted to Clark County, Nevada by right-of-way grant N-75199 pursuant to Title V of the Federal Land Policy and Management Act of October 21, 1976 (43 U.S.C. 1761).

5. Those rights for public roads, utilities and drainage facilities which have been granted to Clark County, Nevada by right-of-way grant N-75246 pursuant to Title V of the Federal Land Policy and Management Act of October 21, 1976 (43 U.S.C. 1761).

6. Those rights for utility purposes which have been granted to Central Telephone Company by right-of-way grant N-75911 pursuant to Title V of the Federal Land Policy and Management Act of October 21, 1976 (43 U.S.C. 1761).

7. Those rights for public utilities which have been granted to Clark County, Nevada by right-of-way grant N-77084 pursuant to Title V of the Federal Land Policy and Management Act of October 21, 1976 (43 U.S.C. 1761).

8. Those rights for public utilities which have been granted to the Las Vegas Valley Water District by right-of-way grant N-77507 pursuant to Title V of the Federal Land Policy and Management Act of October 21, 1976 (43 U.S.C. 1761).

9. Those rights for public utilities which have been granted to Nevada Power by right-of-way grant N-77845 pursuant to Title V of the Federal Land Policy and Management Act of October 21, 1976 (43 U.S.C. 1761).

10. Those rights for public utilities which have been granted to Southwest Gas Corporation by right-of-way grant N-77953 pursuant to Section 28 of the Mineral Leasing Act of 1920, as amended, (30 U.S.C. 185).

Detailed information concerning this action is available for review at the office of the Bureau of Land Management, Las Vegas Field Office, 4701 N. Torrey Pines Drive, Las Vegas, Nevada 89130 or by calling (702) 515-5129.

Upon publication of this notice in the Federal Register, the above described lands will be segregated from all other forms of appropriation under the public land laws, including the general mining laws, except for lease/conveyance under the Recreation and Public Purposes Act, leasing under the mineral leasing laws and disposal under the mineral material disposal laws.

For a period of 45 days from the date of publication of this notice in the Federal Register, interested parties may submit comments regarding the proposed classification for lease/conveyance of the lands to the Field Manager, Las Vegas Field Office, 4701 N. Torrey Pines Drive, Las Vegas, Nevada 89130.

Classification Comments: Interested parties may submit comments involving the suitability of the land for the proposed facilities. Comments on the classification are restricted to whether the land is physically suited for the proposal, whether the use will maximize the future use or uses of the land, whether the use is consistent with local planning and zoning or if the use is consistent with State and Federal programs.

Application Comments: Interested parties may submit comments regarding the specific use proposed in the application and plan of development, whether the BLM followed proper administrative procedures in reaching the decision or any other factor not related to the suitability of the land for the proposed church facilities. Any adverse comments will be reviewed by the State Director who may sustain, vacate, or modify this Realty action. In the absence of any adverse comments, the classification of the land described in the Notice will become effective 60 days from the date of publication in the Federal Register. The lands will not be offered for lease/conveyance until after the classification becomes effective.

Anna Wharton,
Acting Assistant Field Manager, Division of Lands.

[FR Doc. 04-14080 Filed 6-21-04; 8:45 am]

BILLING CODE 4310-HC-P